DEPARTMENT OF COMMERCE

Economic Development Administration

Notice of Petitions by Producing Firms for Determination of Eligibility To Apply for Trade Adjustment Assistance

AGENCY: Economic Development Administration (EDA), Commerce.

ACTION: Notice to give all interested parties an opportunity to comment.

Petitions have been accepted for filing on the dates indicated from the firms listed below.

List of Petition Action By Trade Adjustment Assistance for Period March 20, 2004-April 23, 2004
Firm name | Address | Date petition accepted | Product
Rosewood Industries, Inc | 201 Purdue Road, Stigler, OK 74462 | 4/6/2004 | Cabinets of wood.
Heritage Sportswear, LLC d.b.a. Joan Vass USA | 505 Manning Street, Marion, SC 29571 | 4/1/2004 | Ladies cotton knitwear, high-end tops, pants and skirts, and sportswear from and cotton blends.
Southern Oregon Sales, Inc | 18 Stewart Avenue, Medford, OR 97501 | 3/26/2004 | Pears.
Old Western Paint Co., Inc | 2001 West Barberry Place, Denver, CO 80204 | 3/22/2004 | Oil based paint and varnish and water based paint.
Vergason Technology, Inc | 88 State Route 224, Van Etten, NY 14889 | 3/26/2004 | Vacuum metalizing and coating machine and parts.
ABM Manufacturing, Inc | 415 North Marshall, Sedalia, MO 65301 | 3/30/2004 | Articles of aluminum.
Minco Tool and Mold, Inc | 5690 Webster Street, Dayton, OH 45414 | 4/7/2004 | Injection molds for the automotive, appliance, electronic and business machine indusry.
Sacoma International, Inc | 955 South Walnut Street, Edinburg, IN 46124 | 4/5/2004 | Precision machined parts i.e. exhaust fittings, seating supports and steering column links.
Millennia Group, Inc. (The) | 1105 Pittsburgh Street, Cheswick, PA 15024 | 4/5/2004 | Printed circuit boards.
Hughes Cattle Company | HC 74 Box 134, Fort Davis, TX 79734 | 4/6/2004 | Calves.
Mainelli Tool & Die, Inc | 30 Houghton Street, Providence, RI 02904 | 4/22/2004 | Fashion and religious jewelry in precious metals and base metals.
Sciaky, Inc | 4915 West 67th Street, Chicago, IL 60638 | 4/2/2004 | Electron beam welding systems.
Video Products Group, Inc | 1380 Flynn Road, Camarillo, CA 93012 | 4/6/2004 | Video imaging equipment.
Santa Fe Rubber Products, Inc | 12306 East Washington Blvd., Whittier, CA 90606 | 4/6/2004 | Custom rubber products.
Chemart Company | 11 New England Way, Lincoln, RI 02864 | 4/20/2004 | Christmas and collectible ornaments.
Camillus Cutlery Company | 54 Main Street, Camillus, NY 13031 | 4/20/2004 | Pocket, hunting, military and various other types of knives.
Migali Industries, Inc | 1475 South Sixth Street, Camden, NJ 08104 | 4/20/2004 | Commercial refrigerators and freezers.
Kennedy and Bowdon Machine Comany, Inc | 1229 Heil Quaker Boulevard, LaVergne, TN 37086 | 4/20/2004 | Molds for injection molding of plastics.
Teme, Inc | 306 County Road 1, Gallup, NM 87301 | 4/22/2004 | Silver, platinum and gold jewelry and parts.
Cavedon Company, Inc | 26 Avenue C, Woonsocket, RI 02895 | 4/20/2004 | Scented candles.
Camardese Plastics Corp | 1711 Highway 21, Clarksville, AR 72830 | 4/20/2004 | Plastic shipping trays.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter.

A request for a hearing must be received by Trade Adjustment Assistance, Room 7315, Economic Development Administration, U.S. Department of Commerce, Washington, DC 20230, no later than the close of business of the 10th calendar day following the publication of this notice.

The Catalog of Federal Domestic Assistance official program number and title of the program under which these petitions are submitted is 11.313, Trade Adjustment Assistance.

Dated: April 29, 2004.
Anthony J. Meyer,
Senior Program Analyst, Office of Strategic Initiatives.

[FR Doc. 04-10301 Filed 5-5-04; 8:45 am]

BILLING CODE 3510-24-P